Title 3—

The President

Proclamation 8397 of July 23, 2009

35th Anniversary of the Legal Services Corporation, 2009

By the President of the United States of America

A Proclamation

Every day the Legal Services Corporation (LSC) breathes life into the timeless ideal, “equal justice under law.” It reaches those who cannot afford the assistance they need and those who would otherwise go without vital representation. Today we recognize the 35 years during which the LSC has moved our Nation and our legal system towards greater equality.

The LSC brings legal counsel to every corner of the Nation. As the largest provider of civil legal aid to the poor, it supports programs that touch families in every State. Persons of all ethnic and racial backgrounds know its great work, and women, who represent 75 percent of LSC-supported clients, especially benefit from its expertise.

The Legal Services Corporation’s work helps improve lives. It allows more people to access the public benefits they deserve, more domestic violence victims to secure the protections they desperately need, and more workers to receive the compensation they have been promised and earned.

During an economic crisis, the work of the LSC is especially important. When families face foreclosure, eviction, or bankruptcy, or when communities are targeted by predatory lenders, they need the help of legal professionals. These scenarios are far too common today. Fortunately, the LSC stands ready to meet these demands.

Because economically vulnerable communities continue to face an unmet need for legal services, my Administration has supported increased funding for the LSC. I have also recommended lifting several unnecessary restrictions on funding so that more people can receive assistance. These changes are critical to the organization’s mission and work.

We have made great progress in protecting the legal rights of our citizens, and the Legal Services Corporation has played a vital role in this story for more than 3 decades. With continued support, it will serve those in need and help our Nation live out its highest ideals.

NOW, THEREFORE, I, BARACK OBAMA, President of the United States of America, by virtue of the authority vested in me by the Constitution and the laws of the United States, do hereby proclaim July 25, 2009, as the 35th Anniversary of the Legal Services Corporation. I call upon legal professionals and the people of the United States to honor the contributions of this vital organization.

IN WITNESS WHEREOF, I have hereunto set my hand this twenty-third day of July, in the year of our Lord two thousand nine, and of the Independence of the United States of America the two hundred and thirty-fourth.

[FR Doc. E9-18085

Filed 7-27-09; 8:45 am]

Billing code 3195-W9-P